DEPARTMENT OF LABOR

Occupational Safety and Health Administration

[Docket Number: OSHA-2016-0006]

Whistleblower Protection Advisory Committee

AGENCY: Occupational Safety and Health Administration (OSHA), DOL.

ACTION: Request for nominations to serve on the Whistleblower Protection Advisory Committee.

SUMMARY: The Assistant Secretary of Labor for Occupational Safety and Health requests nominations for membership on the Whistleblower Protection Advisory Committee (WPAC).

DATES: Nominations for WPAC must be submitted (postmarked, sent, transmitted, or received) by May 31, 2016.

ADDRESSES: You may submit nominations for WPAC, identified by the OSHA Docket No. OSHA-2016-0006, by any of the following methods:

Electronically: Nominations, including attachments, may be submitted electronically at http://www.regulations.gov, which is the Federal eRulemaking Portal. Follow the instructions online for making electronic submissions.

Facsimile: If your nomination and supporting materials, including attachments, do not exceed 10 pages, you may fax them to the OSHA Docket Office at (202) 693-1648.

Mail, hand delivery, express mail, messenger or courier service: Submit your nominations and supporting materials to the OSHA Docket Office, Docket No. OSHA-2016-0006, U.S. Department of Labor, Room N-2625, 200 Constitution Avenue NW., Washington, DC 20210; telephone (202) 693-2350 (OSHA's TTY number is (877) 889-5627). Deliveries (hand, express mail, messenger and courier service) are accepted during the Department of Labor's and Docket Office's normal business hours, 8:15 a.m.-4:45 p.m., e.t.

Instructions: All nominations and supporting materials for WPAC must include the Agency name and docket number for this Federal Register notice (Docket No. OSHA-2016-0006). Because of security-related procedures, submitting nominations by regular mail may result in a significant delay in their receipt. Please contact the OSHA Docket Office for information about security procedures for submitting nominations by hand delivery, express delivery, and messenger or courier service. For additional information on submitting nominations see the “Public Participation—Submission of Nominations and Access to Docket” heading in the SUPPLEMENTARY INFORMATION section below.

Submissions in response to this Federal Register notice, including personal information provided, are posted without change at http://www.regulations.gov. Therefore, OSHA cautions interested parties about submitting personal information such as social security numbers and dates of birth.

Docket: To read or download submissions or other material in the docket, go to http://www.regulations.gov or the OSHA Docket Office at the address above. All documents in the docket are listed in the http://www.regulations.gov index; however, some information (e.g., copyrighted material) is not publicly available to read or download through that Web site. All submissions, including copyrighted material, are available for inspection at the OSHA Docket Office.

FOR FURTHER INFORMATION CONTACT: Anthony Rosa, OSHA, Directorate of Whistleblower Protection Programs, U.S. Department of Labor, Room N-4618, 200 Constitution Avenue NW., Washington, DC 20210; telephone (202) 693-2199; email address osha.dwpp@dol.gov.

SUPPLEMENTARY INFORMATION: The Assistant Secretary of Labor for Occupational Safety and Health invites interested individuals to submit nominations for membership on WPAC.

Background. The WPAC advises the Secretary of Labor (the Secretary) and the Assistant Secretary of Labor for Occupational Safety and Health (the Assistant Secretary) on ways to improve the fairness, efficiency, and transparency of OSHA's whistleblower investigations. WPAC is a continuing advisory body and operates in compliance with the Federal Advisory Committee Act (5 U.S.C. App. 2) and its implementing regulations (see “Authority and Signature” section).

WPAC membership. WPAC is comprised of 12 members, whom the Secretary appoints to staggered terms, not to exceed 2 years. OSHA is seeking to fill six positions on WPAC that will become vacant on December 1, 2016. The composition of WPAC and categories of new members to be appointed to new two-year terms are as follows:

• Two management representatives who are or represent employers or employer associations in industries covered by one or more of the whistleblower laws enforced by OSHA;

• Two labor representatives who are or represent workers or worker advocacy organizations in industries covered by one or more of the whistleblower laws enforced by OSHA; and

• Two public representatives from a college, university, non-partisan think tank, or other entity who have extensive knowledge and expertise on whistleblower statutes and issues.

If a vacancy occurs before a term expires, the Secretary may appoint a new member who represents the same interest as the predecessor to serve for the remainder of the unexpired term. The committee meets at least two times a year.

Nomination requirements. Any individual or organization may nominate one or more qualified persons for membership. If an individual or organization nominates more than one person, each person must be named. Submissions of nominations must include the following information for each nominee:

1. The nominee's name, contact information and current occupation or position (required);

2. The nominee's resume or curriculum vitae, including prior membership on WPAC and other relevant organizations, associations and committees (required);

3. Category of membership (management, labor, state plan, or academic/extensive whistleblower knowledge) the nominee is qualified to represent (required);

4. A summary of the nominee's background, experience and qualifications that address the nominee's suitability to serve on WPAC (required);

5. Articles or other documents the nominee has authored that indicate the nominee's knowledge, experience and expertise in whistleblower protections (optional); and

6. A statement that the nominee is aware of the nomination, is willing to regularly attend and participate in WPAC meetings, and has no apparent conflicts of interest that would preclude membership on WPAC (required).

Nominations that do not contain all required information will not be considered.

Membership selection. WPAC members will be selected on the basis of their experience, knowledge, and competence in the field of whistleblower protection. The information received through this nomination process, in addition to other relevant sources of information, will assist the Secretary in appointing members to serve on WPAC. In selecting WPAC members, the Secretary will consider individuals nominated in response to this Federal Register notice, as well as other qualified individuals. The Department encourages the nomination of individuals with diverse viewpoints, perspectives and experiences to the WPAC, including individuals with disabilities and individuals of all races, genders, ages, and sexual orientations.

Before candidates are appointed, the U.S. Department of Labor (Department) conducts a basic background check using publically available, Internet-based sources.

Instructions for submitting nominations. Interested individuals may submit nominations and supplemental materials using one of the methods listed in the ADDRESSES section. All nominations, attachments and other materials must identify the docket number for this Federal Register notice (Docket No. OSHA-2016-0006). To submit nominations through http://www.regulations.gov, search for the docket (OSHA-2016-0006), open the docket, click on the button that states “Comment Now”, and follow the instructions. You may supplement electronic nominations by uploading document files electronically. If, instead, you wish to submit additional materials in reference to an electronic or FAX submission, you must submit them to the OSHA Docket Office (see ADDRESSES section). The additional material must clearly identify your electronic or FAX submission by name and docket number (Docket No. OSHA-2016-0006) so that the materials can be attached to your submission.

Because of security-related procedures, the use of regular mail may cause a significant delay in the receipt of nominations. For information about security procedures concerning the delivery of materials by hand, express delivery, messenger or courier service, please contact the OSHA Docket Office (see ADDRESSES section).

All submissions in response to this Federal Register notice are posted without change at http://www.regulations.gov. Therefore, OSHA cautions interested parties about submitting personal information, such as Social Security numbers and birthdates. Guidance on submitting nominations and materials in response to this Federal Register notice is available at http://www.regulations.gov and from the OSHA Docket Office.

Access to docket and other materials. To read or download nominations and additional materials submitted in response to this Federal Register notice, go to Docket No. OSHA-2016-0006, at: http://www.regulations.gov. All submissions are listed in the index of that docket. However, some documents (e.g., copyrighted material) are not publicly available to read or download through that Web page. All submissions, including copyrighted material, are available for inspection at the OSHA Docket Office. Contact the OSHA Docket Office for information about materials not available through http://www.regulations.gov and for assistance in using the internet to locate submissions.

Electronic copies of this Federal Register notice are available at: http://www.regulations.gov. This document, as well as news releases and other relevant information, also is available at the Directorate of Whistleblower Protection Program's Web page at http://www.whistleblowers.gov.

Authority and Signature

David Michaels, Ph.D., MPH, Assistant Secretary of Labor for Occupational Safety and Health, authorized the preparation of this notice under the authority granted by 5 U.S.C. App. 2, 41 CFR part 102-3, chapter 1600 of Department of Labor Management Series 3 (Aug. 15, 2013), 77 FR 3912 (Jan. 25, 2012), and the Secretary of Labor's authority to administer the whistleblower provisions found in 29 U.S.C. 660(c), 49 U.S.C. 31105, 15 U.S.C. 2651, 46 U.S.C. 80507, 42 U.S.C. 300j-9(i), 33 U.S.C. 1367, 15 U.S.C. 2622, 42 U.S.C. 6971, 42 U.S.C. 7622, 42 U.S.C. 9610, 42 U.S.C. 5851, 49 U.S.C. 42121, 18 U.S.C. 1514A, 49 U.S.C. 60129, 49 U.S.C. 20109, 6 U.S.C. 1142, 15 U.S.C. 2087, 29 U.S.C. 218c, 12 U.S.C. 5567, 46 U.S.C. 2114, 21 U.S.C. 399d, and 49 U.S.C. 30171.

Signed at Washington, DC, on March 29, 2016.
David Michaels,
Assistant Secretary of Labor for Occupational Safety and Health.

[FR Doc. 2016-07427 Filed 3-31-16; 8:45 am]

BILLING CODE 4510-26-P